DEPARTMENT OF THE INTERIOR

National Park Service

[NPS-WASO-NAGPRA-NPS0038195; PPWOCRADN0-PCU00RP14.R50000]

Notice of Inventory Completion: Sam Noble Oklahoma Museum of Natural History, Norman, OK

AGENCY: National Park Service, Interior.

ACTION: Notice.

SUMMARY: In accordance with the Native American Graves Protection and Repatriation Act (NAGPRA), the Sam Noble Oklahoma Museum of Natural History (SNOMNH), has completed an inventory of human remains and associated funerary objects and has determined that there is a cultural affiliation between the human remains and associated funerary objects and Indian Tribes or Native Hawaiian organizations in this notice.

DATES: Repatriation of the human remains and associated funerary objects in this notice may occur on or after July 31, 2024.

ADDRESSES: Dr. Marc Levine, Associate Curator of Archaeology, Sam Noble Oklahoma Museum of Natural History, University of Oklahoma, 2401 Chautauqua Avenue, Norman, OK 73072-7029, telephone (405) 325-1994, email mlevine@ou.edu.

SUPPLEMENTARY INFORMATION: This notice is published as part of the National Park Service's administrative responsibilities under NAGPRA. The determinations in this notice are the sole responsibility of the SNOMNH, and additional information on the determinations in this notice, including the results of consultation, can be found in its inventory or related records. The National Park Service is not responsible for the determinations in this notice.

Abstract of Information Available

In 1941, human remains representing, at minimum, 64 individuals were removed from the Henry Heflin I site (34Lf14) in LeFlore County, OK. This site was excavated by the Works Progress Administration (WPA) in 1941, and the associated finds were transferred to the Museum that same year. The human remains and associated funerary objects from site 34Lf14 were interred during the Woodland Period (300 B.C.-A.D. 900). The human remains include 15 adult females, nine adult males, two adolescents, five children, one infant, three adult probable females, 13 adult probable males, 15 adults for whom sex could not be determined, and one individual for whom age and sex could not be determined.

The 62 associated funerary objects are 24 stone projectile points, five boatstones, two pieces of hematite, two stone gorges, one stone tool, one worked stone, two pieces of quartz, one piece of galena, one reconstructible decorated ceramic vessel, one potsherd, five faunal bone tools, three modified faunal bones, one turtle shell fragment, six faunal bones, five shell jewelry pieces, one modified shell, and one shell with red ochre.

In 1942, human remains representing, at minimum, 43 individuals were removed from the DeHart II site (34Lf17) in LeFlore County, OK. This site was excavated by the WPA in 1942, and the associated finds were transferred to the Museum that same year. The human remains and associated funerary objects from site 34Lf17 were interred during the Woodland Period (300 B.C.-A.D. 900). The human remains include seven adult females, six adult males, six adolescents, five children, six adult probable females, six adult probable males, five adults for whom sex could not be determined, and two individuals for whom age and sex could not be determined.

The 44 associated funerary objects are six stone projectile points, two stone bifaces, two boatstones, one inscribed stone gorget, two pieces of hematite, one piece of clay with a human fingerprint, two potsherds, one faunal bone hairpin, one antler flaker, one deer bone fragment, one buckhorn fragment, 10 faunal bones, two bags of dog bones, three turtle shell fragments, four shell beads, two shell gorgets, two shells, and one piece of burned wood.

In 1941, human remains representing, at minimum, 34 individuals were removed from the DeHart I site (34Lf18) in LeFlore County, OK. This site was excavated by the WPA in 1941, and the associated finds were transferred to the Museum that same year. The human remains and associated funerary objects from site 34Lf18 were interred during the Woodland Period (300 B.C.-A.D. 900). The human remains include four adult females, four adult males, seven children, six adult probable females, five adult probable males, two adolescents, and six individuals for whom sex and age could not be determined.

The 37 associated funerary objects are five stone projectile points, three stone manos, one stone gorget, four pieces of hematite, one stone flake, two potsherds with grog temper, two faunal bone pins, three broken faunal bone pins, one broken faunal bone pendant, one faunal bone awl fragment, one bear tooth, three buckhorns, five buckhorn fragments, one bag of buckhorn fragments, one bag of beaver tooth fragments, one deer bone, and two bags of faunal bones.

In 1941, human remains representing, at minimum, 125 individuals were removed from the Copeland site (34Lf20) in LeFlore County, OK. This site was excavated by the WPA in 1941, and the associated finds were transferred to the Museum in the same year. The human remains and associated funerary objects from site 34Lf20 were interred during the Woodland Period (300 B.C.E.-900 C.E.). The human remains include 24 adult females, 18 adult males, seven adolescents, 16 children, one infant, 17 adult probable females, 12 adult probable males, 28 adults of indeterminate sex, and two individuals for whom sex and age could not be determined.

The 127 associated funerary objects are 15 stone projectile points, three stone projectile point fragments, one boatstone, three stone celts, one stone gorget, one stone axe, one hammerstone, one stone inlay from a wooden ear plug, six pieces of hematite, one obsidian flake, two worked stones, two stone flakes, one ceramic vessel, 11 potsherds, two bags of potsherds, four faunal bone hairpins, one faunal bone bead, three faunal bone awls, three faunal bone awl fragments, two worked faunal bones, two bags of dog bones, three deer bones, four faunal bones, one turtle shell fragment, 11 bags of faunal bones, two bags of faunal teeth, 35 shell beads, one bag of shell bead fragments, two shells, one shell fragment, and one bag of seeds and wood fragments.

In 1940 and 1941, human remains representing, at minimum, 53 individuals were removed from the Conner site (34Lf21) in LeFlore County, OK. This site was excavated by the WPA in 1940 and 1941, and the associated finds were transferred to the Museum shortly thereafter. The human remains and associated funerary objects from site 34Lf21 were interred during the Woodland Period (300 B.C.-A.D. 900). The human remains include 14 adult females, four adult males, four adolescents, nine children, one infant, nine adult probable females, five adult probable males, and seven adults for whom sex could not be determined.

The 37 associated funerary objects are 13 stone projectile points, one stone projectile point fragment, one stone cone-shaped paint cup, one stone gorget fragment, nine pieces of worked hematite, one worked stone, one potsherd, one faunal bone awl, one faunal bone knife, four faunal bones, three bags of faunal bones, and one fragment of wood.

In 1940, human remains representing, at minimum, 44 individuals were removed from the John Smith site (34Lf22) in LeFlore County, OK. This site was excavated by the WPA in 1940 and 1941, and the associated finds were transferred to the Museum shortly thereafter. The human remains and associated funerary objects from site 34Lf22 were interred during the Woodland Period (300 B.C.-A.D. 900). The human remains include seven adult females, three adult males, four adolescents, three infants, nine adult probable females, seven adult probable males, six adults for whom sex could not be determined, and five individuals for whom sex and age could not be determined.

The 43 associated funerary objects are eight stone projectile points, three paint stones, one hammerstone, one boatstone, two worked stone tools, two potsherds, five faunal bone beads, one faunal bone awl, two faunal bone awl fragments, one faunal bone fish hook fragment, four worked faunal bones, three faunal bones, four bags of faunal bones, one turtle shell fragment, one bag of turtle shell fragments, one shell pendant fragment, two bags of shell fragments, and one piece of wood.

Cultural Affiliation

Based on the information available and the results of consultation, cultural affiliation is clearly identified by the information available about the human remains and associated funerary objects described in this notice.

Determinations

The SNOMNH has determined that:

• The human remains described in this notice represent the physical remains of 363 individuals of Native American ancestry.

• The 350 objects described in this notice are reasonably believed to have been placed intentionally with or near individual human remains at the time of death or later as part of the death rite or ceremony.

• There is a connection between the human remains and associated funerary objects described in this notice and the Caddo Nation of Oklahoma and the Wichita and Affiliated Tribes (Wichita, Keechi, Waco, & Tawakonie), Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 31, 2024. If competing requests for repatriation are received, the SNOMNH must determine the most appropriate requestor prior to repatriation. Requests for joint repatriation of the human remains and associated funerary objects are considered a single request and not competing requests. The SNOMNH is responsible for sending a copy of this notice to the Indian Tribes and Native Hawaiian organizations identified in this notice.

Authority: Native American Graves Protection and Repatriation Act, 25 U.S.C. 3003, and the implementing regulations, 43 CFR 10.10.

Dated: June 24, 2024.
Melanie O'Brien,
Manager, National NAGPRA Program.

[FR Doc. 2024-14463 Filed 6-28-24; 8:45 am]

BILLING CODE 4312-52-P